DEPARTMENT OF ENERGY

Federal Energy Regulatory Commission

Combined Notice of Filings

Wednesday, April 22, 2009.

Take notice that the Commission has received the following Natural Gas Pipeline Rate and Refund Report filings:

Docket Numbers: RP02-361-075.

Applicants: Gulfstream Natural Gas System, L.L.C.

Description: Gulfstream Natural Gas System, LLC submits FERC Gas Tariff, Original Volume 1 and copies of Second Revised Sheet 8.01a effective 5/1/09.

Filed Date: 04/17/2009.

Accession Number: 20090420-0159.

Comment Date: 5 p.m. Eastern Time on Wednesday, April 29, 2009.

Docket Numbers: RP03-36-044.

Applicants: Dauphin Island Gathering Partners.

Description: Dauphin Island Gathering Partners submits for filing Forty-Fifth Revised Sheet 9 to its FERC Gas Tariff, First Revised Volume 1, to be effective 4/21/09.

Filed Date: 04/20/2009.

Accession Number: 20090420-0186.

Comment Date: 5 p.m. Eastern Time on Monday, May 4, 2009.

Docket Numbers: RP09-3-002.

Applicants: Texas Gas Transmission, LLC.

Description: Texas Gas Transmission, LLC submits Sub. Second Revised Original Sheet 36 et al. to its FERC Gas Tariff, Third Revised Volume 1, to be effective 4/1/09.

Filed Date: 04/17/2009.

Accession Number: 20090420-0162.

Comment Date: 5 p.m. Eastern Time on Wednesday, April 29, 2009.

Docket Numbers: RP09-295-001.

Applicants: Colorado Interstate Gas Company.

Description: Colorado Interstate Gas Company submits First Revised Volume 1 et al. effective 5/18/09.

Filed Date: 04/17/2009.

Accession Number: 20090420-0160.

Comment Date: 5 p.m. Eastern Time on Wednesday, April 29, 2009.

Docket Numbers: RP09-299-001.

Applicants: Wyoming Interstate Company, Ltd.

Description: Wyoming Interstate Company, Ltd submits Second Revised Volume 2 et al., to be effective 5/18/09.

Filed Date: 04/17/2009.

Accession Number: 20090420-0161.

Comment Date: 5 p.m. Eastern Time on Wednesday, April 29, 2009.

Docket Numbers: RP09-521-000.

Applicants: B-R Pipeline Company.

Description: B-R Pipeline Company submits First Revised Sheet 1 et al. to FERC Gas Tariff, Original Volume 1.

Filed Date: 04/17/2009.

Accession Number: 20090420-0163.

Comment Date: 5 p.m. Eastern Time on Wednesday, April 29, 2009.

Docket Numbers: RP09-522-000.

Applicants: USG Pipeline Company.

Description: USG Pipeline Company submits First Revised Sheet 1 et al. to FERC Gas Tariff, Original Volume 1.

Filed Date: 04/17/2009.

Accession Number: 20090420-0164.

Comment Date: 5 p.m. Eastern Time on Wednesday, April 29, 2009.

Docket Numbers: RP09-523-000.

Applicants: Gulf South Pipeline Company, LP.

Description: Gulf South Pipeline Company, LP submits a potentially non-conforming discounted rate agreement under Rate Schedule FTS with BG LNG Services, LLC.

Filed Date: 04/17/2009.

Accession Number: 20090420-0165.

Comment Date: 5 p.m. Eastern Time on Wednesday, April 29, 2009.

Docket Numbers: RP09-524-000.

Applicants: Colorado Interstate Gas Company.

Description: Colorado Interstate Gas Company submits for acceptance Third Revised Sheet 380J et al. to its FERC Gas Tariff, First Revised Volume 1.

Filed Date: 04/17/2009.

Accession Number: 20090420-0166.

Comment Date: 5 p.m. Eastern Time on Wednesday, April 29, 2009.

Docket Numbers: RP09-525-000.

Applicants: Hardy Storage Company, LLC.

Description: Hardy Storage Company, LLC submits First Revised Sheet 38 et al. to FERC Gas Tariff, Third Revised Volume 1, to be effective 5/1/09.

Filed Date: 04/17/2009.

Accession Number: 20090420-0167.

Comment Date: 5 p.m. Eastern Time on Wednesday, April 29, 2009.

Docket Numbers: RP09-526-000.

Applicants: Guardian Pipeline, L.L.C.

Description: Guardian Pipeline, LLC submits for filing First Revised Sheet 4 to its FERC Gas Tariff, Original Volume 1, to be effective 5/20/09.

Filed Date: 04/20/2009.

Accession Number: 20090420-0187.

Comment Date: 5 p.m. Eastern Time on Monday, May 4, 2009.

Docket Numbers: RP09-527-000.

Applicants: Midwestern Gas Transmission Company.

Description: Midwestern Gas Transmission Company submits for filing Eighteen Revised Sheet 237 to its FERC Gas Tariff, Third Revised Volume 1, to be effective 5/20/09.

Filed Date: 04/20/2009.

Accession Number: 20090420-0188.

Comment Date: 5 p.m. Eastern Time on Monday, May 4, 2009.

Docket Numbers: RP09-528-000.

Applicants: East Tennessee Natural Gas Company.

Description: East Tennessee Natural Gas, LLC submits Third Revised Sheet 104 et al. to its FERC Gas Tariff, Third Revised Volume 1, to be effective 5/21/09.

Filed Date: 04/21/2009.

Accession Number: 20090421-0347.

Comment Date: 5 p.m. Eastern Time on Monday, May 4, 2009.

Docket Numbers: RP09-529-000.

Applicants: Columbia Gas Transmission, LLC.

Description: Columbia Gas Transmission, LLC submits First Revised Sheet 262 et al. to its FERC Gas Tariff, Third Revised Volume 1, to be effective 5/20/09.

Filed Date: 04/20/2009.

Accession Number: 20090421-0346.

Comment Date: 5 p.m. Eastern Time on Monday, May 4, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel Davis, Sr.,
Deputy Secretary.

[FR Doc. E9-9737 Filed 4-28-09; 8:45 am]

BILLING CODE